ENVIRONMENTAL PROTECTION AGENCY

[AMS-FRL-7263-4]

California State Motor Vehicle Pollution Control Standards; Waiver of Federal Preemption—Notice of Decision

AGENCY: Environmental Protection Agency (EPA).

ACTION: Notice.

SUMMARY: EPA today, pursuant to section 209(b) of the Clean Air Act (Act), 42 U.S.C. 7543(b), is granting California its request for a waiver of federal preemption, with the exceptions noted below, for its Onboard Refueling Vapor Recovery (ORVR) regulations. By letter dated July 22, 1997, the California Air Resources Board (CARB) requested that EPA grant California a waiver of federal preemption for its ORVR regulations which primarily incorporate EPA's ORVR regulations and with a phase-in commencing in 1998.

ADDRESSES: The Agency's Decision Document, containing an explanation of the Assistant Administrator's decision, as well as all documents relied upon in making that decision, including those submitted to EPA by CARB, are available at the EPA's Air and Radiation Docket and Information Center (Air Docket). The Air Docket Office is open from 8 to 4 p.m. Monday through Friday, at EPA, Air Docket (6102), Room M-1500, Waterside Mall, 401 M Street, SW., Washington, DC 20460. The reference number for this docket is A-97-38.

Electronic copies of this Notice and the accompanying Decision Document are available via the Internet on the Office of Transportation and Air Quality (OTAQ) website (http://www.epa.gov/OTAQ). Users can finds these documents by accessing the OTAQ website and looking at the path entitled, “Regulations.” This service is free of charge, except for any cost you already incur for Internet connectivity. The electronic Federal Register version of the Notice is made available on the day of publication on the primary website (http://www.epa.gov/docs/fedrgstr/EPA-AIR).

Please note that due to differences between the software used to develop the documents and the software into which the documents may be downloaded, changes in format, page length, etc., may occur.

FOR FURTHER INFORMATION CONTACT: David J. Dickinson, Certification and Compliance Division, U.S. Environmental Protection Agency, Ariel Rios Building (6405J), 1200 Pennsylvania Avenue, NW., Washington, DC 20460. Telephone: (202) 564-9256. Fax: (202) 565-2057. E-Mail address: Dickinson.David@EPA.GOV.

SUPPLEMENTARY INFORMATION: I have decided to grant California a waiver of Federal preemption pursuant to section 209(b) of the Act for amendments to its motor vehicle pollution control program for ORVR which incorporates (1) EPA's emission standards (0.20 grams hydrocarbon, Organic Material Hydrocarbon Equivalent, for alcohol fuels, per gallon of fuel dispensed); (2) Federal preconditioning and sequencing provisions for integrated and non-integrated ORVR systems; and (3) Federal refueling steps common to both integrated and non-integrated ORVR systems.¹

¹ Title 13, California Code of Regulations (CCR), section 1978 and the incorporated “California Refueling Emissions Standards and Test Procedures for 1998 and Subsequent Model Motor Vehicles” as adopted by CARB Executive Order G-96-026 on April 24, 1996. As explained below, EPA is not waiving section 1978 as it applies to vehicles fueled by CNG or LPG to the extent that CARB's ORVR regulation does not apply to such vehicles. In addition, EPA is not at this time waiving the amendments CARB made to section 1978 at its November 5, 1998 hearing including CARB's new regulation “California Refueling Emission Standards and Test Procedures for 2001 and Subsequent Motor Vehicles.” EPA anticipated that it will consider CARB's new regulation and matters regarding CARB's clarifications on gaseous and gasoline fueled vehicles within the context of a future waiver proceeding or when California's regulations are brought within the scope of today's waiver.

Section 209(b) of the Act provides that, if certain criteria are met, the Administrator shall waive Federal preemption for California to enforce new motor vehicle emission standards and accompanying enforcement procedures. The criteria include consideration of whether California arbitrarily and capriciously determined that its standards are, in the aggregate, at least as protective of public health and welfare as the applicable Federal standards; whether California needs State standards to meet compelling and extraordinary conditions; and whether California's amendments are consistent with section 202(a) of the Act.

CARB determined that its ORVR standards and accompanying enforcement procedures do not cause California's standards, in the aggregate, to be less protective of public health and welfare than the applicable Federal standards. EPA received no comments that questioned CARB's determination. As indicated in footnote one, to the extent that CARB's ORVR regulation does not apply to gaseous fueled vehicles a waiver for such vehicles is not granted, and as further explained in the Decision Document the federal ORVR regulations apply to such vehicles. In all other respects EPA cannot make a finding that CARB's determination, that its ORVR requirements are, in the aggregate, at least as protective of public health and welfare, is arbitrary and capricious.

CARB has continually demonstrated the existence of compelling and extraordinary conditions justifying the need for its own motor vehicle pollution control program, which includes the subject standards and procedures. No information has been submitted to demonstrate that California no longer has a compelling and extraordinary need for its own program. Therefore, I agree that California continues to have compelling and extraordinary conditions which require its own program, and, thus, I cannot deny the waiver on the basis of the lack of compelling and extraordinary conditions.

CARB has submitted information that the requirements of its emission standards and test procedures are technologically feasible and present no inconsistency with federal requirements and are, therefore, consistent with section 202(a) of the Act. No information has been presented to demonstrate that CARB's requirements are inconsistent with section 202(a) of the Act, nor does EPA have any other reason to believe that CARB's requirements are inconsistent with section 202(a). Thus, I cannot find that California's ORVR requirements will be inconsistent with section 202(a) of the Act. Accordingly, I hereby grant the waiver requested by California.

My decision will affect not only persons in California but also the manufacturers outside the State who must comply with California's requirements in order to produce motor vehicles for sale in California. For this reason, I hereby determine and find that this is a final action of national applicability.

Under section 307(b)(1) of the Act, judicial review of this final action may be sought only in the United States Court of Appeal for the District of Columbia Circuit. Petitions for review must be filed by October 21, 2002. Under section 307(b)(2) of the Act, judicial review of this final action may not be obtained in subsequent enforcement proceedings.

As with past waiver decisions, this action is not a rule as defined by Executive Order 12866. Therefore, it is exempt from review by the Office of Management and Budget as required for rules and regulations by Executive Order 12866.

In addition, this action is not a rule as defined in the Regulatory Flexibility Act, 5 U.S.C. 601(2). Therefore, EPA has not prepared a supporting regulatory flexibility analysis addressing the impact of this action on small business entities.

Finally, the Administrator has delegated the authority to make determinations regarding waivers of Federal preemption under section 209(b) of the Act to the Assistant Administrator for Air and Radiation.

Dated: August 13, 2002.
Robert Brenner,
Acting Assistant Administrator for Air and Radiation.

[FR Doc. 02-21290 Filed 8-20-02; 8:45 am]

BILLING CODE 6560-50-P